DEPARTMENT OF ENERGY

Federal Energy Regulatory Commission

Combined Notice of Filings # 1

January 11, 2007.

Take notice that the Commission received the following electric corporate filings:

Docket Numbers: EC06-140-000; EL06-86-000.

Applicants: E.ON U.S. LLC.

Description: E.ON US LLC's formal notice that seeks to join and be included in the Spare Transformer Sharing Agreement.

Filed Date: 12/21/2006.

Accession Number: 20070109-0076.

Comment Date: 5 p.m. Eastern Time on Thursday, January 11, 2007.

Take notice that the Commission received the following electric rate filings:

Docket Numbers: ER98-2782-011.

Applicants: AG-Energy, LP.

Description: Power City Partners, LP notifies FERC of a change in facts regarding its upstream ownership.

Filed Date: 01/09/2007.

Accession Number: 20070110-0140.

Comment Date: 5 p.m. Eastern Time on Tuesday, January 30, 2007.

Docket Numbers: ER99-1435-013.

Applicants: Avista Corporation.

Description: Avista Corp submits its report on activities in the ancillary services markets conducted pursuant to FERC Electric Tariff, Volume No. 9.

Filed Date: 01/09/2007.

Accession Number: 20070110-0142.

Comment Date: 5 p.m. Eastern Time on Tuesday, January 30, 2007.

Docket Numbers: ER06-120-002.

Applicants: Duke Power Company LLC.

Description: Duke Energy Carolinas, LLC submits Explanatory Statement in support of Offer of Settlement re Duke Energy Corporation.

Filed Date: 01/08/2007.

Accession Number: 20070109-0079.

Comment Date: 5 p.m. Eastern Time on Monday, January 29, 2007.

Docket Numbers: ER07-109-003.

Applicants: BTEC Southaven LLC.

Description: BTEC Southaven, LLC submits its Third Substitute Original Sheet No. 2 to its FERC Electric Tariff.

Filed Date: 01/05/2007.

Accession Number: 20070108-0377.

Comment Date: 5 p.m. Eastern Time on Friday, January 26, 2007.

Docket Numbers: ER07-148-002.

Applicants: San Diego Gas & Electric Company.

Description: San Diego Gas and Electric Co submits an errata to the 12/19/06 submittal of the revised Service Agreement 18 to FERC Electric Tariff, Second Revised Volume No. 11 correcting typographic errors.

Filed Date: 01/08/2007.

Accession Number: 20070109-0078.

Comment Date: 5 p.m. Eastern Time on Monday, January 29, 2007.

Docket Numbers: ER07-174-003.

Applicants: Osceola Windpower, LLC.

Description: Osceola Windpower, LLC submits an amendment to its market-based rate tariff to remove the duplicative provision on the reassignment of transmission capacity inadvertently included in the 12/8/06 filing.

Filed Date: 01/05/2007.

Accession Number: 20070108-0255.

Comment Date: 5 p.m. Eastern Time on Friday, January 26, 2007.

Docket Numbers: ER07-410-001.

Applicants: Oklahoma Gas and Electric Company.

Description: Oklahoma Gas and Electric Company submits a cover sheet canceling Rate Schedule FERC No. 147.

Filed Date: 01/09/2007.

Accession Number: 20070110-0141.

Comment Date: 5 p.m. Eastern Time on Tuesday, January 30, 2007.

Docket Numbers: ER07-412-000.

Applicants: ECP Energy I, LLC.

Description: ECP Energy I, LLC submits an application for Order accepting Initial Tariff, Waiving Regulations and Granting Blanket Approvals.

Filed Date: 01/05/2007.

Accession Number: 20070108-0252.

Comment Date: 5 p.m. Eastern Time on Friday, January 26, 2007.

Docket Numbers: ER07-413-000.

Applicants: Tampa Electric Company.

Description: Tampa Electric Co submits Second Revised Sheet No. 6 to FERC Electric Tariff, Original Volume No. 6, to be effective 1/2/07.

Filed Date: 01/05/2007.

Accession Number: 20070108-0253.

Comment Date: 5 p.m. Eastern Time on Friday, January 26, 2007.

Docket Numbers: ER07-414-000.

Applicants: Caledonia Power I, L.L.C.

Description: Caledonia Power I, LLC submits notice of cancellation of its market-based rate tariff, FERC Electric Tariff, First Revised Volume No. 1.

Filed Date: 01/05/2007.

Accession Number: 20070108-0258.

Comment Date: 5 p.m. Eastern Time on Friday, January 26, 2007.

Docket Numbers: ER07-415-000.

Applicants: DTE Pontiac North, LLC.

Description: DTE Pontiac North, LLC submits an application for order authorizing Market-Based Rates, Certain Waivers and Blanket Authorizations.

Filed Date: 01/05/2007.

Accession Number: 20070108-0254.

Comment Date: 5 p.m. Eastern Time on Friday, January 26, 2007.

Docket Numbers: ER07-416-000.

Applicants: Geneva Roth Holding, LLC.

Description: Geneva Roth Holding, LLC submits its FERC Electric Tariff, Original Volume No. 1.

Filed Date: 01/05/2007.

Accession Number: 20070108-0376.

Comment Date: 5 p.m. Eastern Time on Friday, January 26, 2007.

Docket Numbers: ER07-417-000.

Applicants: Wabash Valley Power Association, Inc.

Description: Wabash Valley Power Association, Inc submits supplements to FERC Rate Schedule filing of Jurisdictional Agreements Part 1 of 4.

Filed Date: 01/08/2007.

Accession Number: 20070109-0135.

Comment Date: 5 p.m. Eastern Time on Monday, January 29, 2007.

Docket Numbers: ER07-418-000.

Applicants: Western Systems Power Pool, Inc.

Description: Western Systems Power Pool, Inc submits its request to amend the WSPP Agreement to include Alcoa Power Marketing, LLC et al as members.

Filed Date: 01/08/2007.

Accession Number: 20070109-0098.

Comment Date: 5 p.m. Eastern Time on Monday, January 29, 2007.

Docket Numbers: ER07-419-000.

Applicants: PPL Electric Utilities Corporation.

Description: Metropolitan Edison Co submits a revised Interconnection Agreement with PPL Electric Utilities Corp.

Filed Date: 01/08/2007.

Accession Number: 20070109-0099.

Comment Date: 5 p.m. Eastern Time on Monday, January 29, 2007.

Docket Numbers: ER07-420-000.

Applicants: American Electric Power Service Corporation.

Description: American Electric Power Service Corporation as agent for Kentucky Power Co submits an interconnection agreement with East Kentucky Power Cooperative.

Filed Date: 01/09/2007.

Accession Number: 20070110-0143.

Comment Date: 5 p.m. Eastern Time on Tuesday, January 30, 2007.

Docket Numbers: ER07-421-000.

Applicants: Wisconsin Power and Light Company.

Description: Wisconsin Power and Light Co submits the First Revised Power Supply Agreement with Wisconsin Public Power Inc.

Filed Date: 01/05/2007.

Accession Number: 20070108-0256.

Comment Date: 5 p.m. Eastern Time on Friday, January 26, 2007.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E7-667 Filed 1-18-07; 8:45 am]

BILLING CODE 6717-01-P